DEPARTMENT OF THE TREASURY

Office of the Comptroller of the Currency

[OCC Charter Number 701904]

Hamilton Bank, Baltimore, Maryland; Approval of Conversion Application

Notice is hereby given that on August 13, 2012, the Office of the Comptroller of the Currency (OCC) approved the application of Hamilton Bank, Baltimore, Maryland to convert to the stock form of organization. Copies of the application are available for inspection. You may personally inspect and photocopy the application at the OCC, 250 E Street SW., Washington, DC 20219. For security reasons, the OCC requires that visitors make an appointment to inspect comments. You may do so by calling (202) 874-4700. Upon arrival, visitors will be required to present valid government-issued photo identification and to submit to security screening in order to inspect and photocopy the application. The application may also be inspected at the OCC Northeast District Licensing Office, 340 Madison Avenue, Fifth Floor, New York, New York 10173-0002. You may do so by calling (212) 790-4055.

Dated: August 21, 2012.
By the Office of the Comptroller of the Currency.
Stephen A. Lybarger,
Deputy Comptroller for Licensing.

[FR Doc. 2012-21203 Filed 8-27-12; 8:45 am]

BILLING CODE 4810-33-P